DEPARTMENT OF THE INTERIOR

National Park Service

Draft General Management Plan/Draft Environmental Impact Statement, Boston Harbor Islands National Recreation Area, Massachusetts

AGENCY: National Park Service.

ACTION: Notice of Availability of Draft General Management Plan/Draft Environmental Impact Statement.

SUMMARY: Pursuant to Council on Environmental Quality regulations and National Park Service policy, this notice announces the availability for public review of a Draft General Management Plan/Draft Environmental Impact Statement for Boston Harbor Islands National Recreation Area, Suffolk, Norfolk, and Plymouth Counties, Massachusetts. In accordance with the National Environmental Policy Act 102(2)(C) of 1969, the environmental impact statement was prepared to assess the impacts of implementing the general management plan.

The Draft General Management Plan/Draft Environmental Impact Statement presents, in a policy level document, four management alternatives, including a preferred alternative and a no-action alternative, then assesses the potential environmental and socioeconomic effects of the actions presented on park resources, visitor experience, and the surrounding area. The alternatives differ in their approaches to management. The preferred alternative calls for a strong emphasis on resource preservation, encouraging most visitors to visit a few islands while allowing preservation of many other islands in their “natural” condition. Other alternatives would emphasize either preserving resources or accommodating visitors throughout the island system. The no-action alternative would continue current management by a variety of local, state, federal, and private entities with no new funding from the National Park Service.

DATES: The formal public review period is to start on or about June 3, 2000, for 60 days. Eight public forums will be held during the month of June. The dates, times, and location of the public forums will be advertised in local media.

SUPPLEMENTARY INFORMATION: Copies of the document will be available for review at the following locations:

• Boston Harbor Islands National Park Area, 408 Atlantic Avenue, Suite 228, Boston, Massachusetts 02110

• Public Libraries in Greater Boston

The full document will also be posted on the internet at www.nps.gov/BOHA/admin.

To request copies of the document, please write or fax the Project Manager, Boston Harbor Islands National Park Area, 408 Atlantic Avenue, Suite 228, Boston MA 02110, fax (617) 223-8671.

Comments on the Draft General Management Plan/Draft Environmental Impact Statement should be submitted to George Price, Project Manager, Boston Harbor Islands National Park Area, 408 Atlantic Avenue, Suite 228, Boston MA 02110. Comments may also be faxed to (617) 223-8671.

Dated: May 24, 2000.
George Price,
Project Manager, Boston Harbor Islands National Park Area.

[FR Doc. 00-13909 Filed 6-2-00; 8:45 am]

BILLING CODE 4310-70-P